DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of a meeting of the Marine Protected Areas Federal Advisory Committee (Committee) in Monterey, California.

DATES: The meeting will be held Tuesday, November 18, 2008, from 8:30 a.m. to 5 p.m., Wednesday, November 19, from 8:30 a.m. to 5 p.m., and Thursday, November 20, from 8:30 a.m. to 12:30 p.m. These times and the agenda topics described below are subject to change. Refer to the Web page listed below for the most up-to-date meeting agenda.

ADDRESSES: The meeting will be held at the Monterey Bay Plaza Hotel, 400 Cannery Row, Monterey, California.

FOR FURTHER INFORMATION CONTACT: Lauren Wenzel, Designated Federal Officer, MPA FAC, National Marine Protected Areas Center, 1305 East West Highway, Silver Spring, Maryland 20910. (Phone: 301-713-3100 x136, Fax: 301-713-3110); e-mail: lauren.wenzel@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158 on MPAs. The meeting will be open to public participation from 4:15 p.m. to 5 p.m. on Tuesday, November 18, 2008, and from 8:35 a.m. to 9:30 a.m. on Thursday, November 20, 2008. In general, each individual or group will be limited to a total time of five (5) minutes. If members of the public wish to submit written statements, they should be submitted to the Designated Federal Official by November 14, 2008.

Matters to be Considered: The Committee will hear a panel presentation and discussion on ocean observations and marine protected areas, and will consider draft reports and recommendations from the Scientific and Technical Subcommittee and the Review and Evaluation Subcommittee. It will also hold elections for the position of chair and vice chair, and will hear presentations on the development of the national system of marine protected areas, including the nomination and gap analysis processes. Committee members and the public are also invited to attend a ceremony to mark the launch of the national system of marine protected areas. The Agenda is subject to change, and the latest version will be posted at http://www.mpa.gov.

Dated: November 4, 2008.
Christopher C. Cartwright,
CFO/CAO, NOAA's National Ocean Service.

[FR Doc. E8-26811 Filed 11-7-08; 8:45 am]

BILLING CODE 3510-08-P